DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 3, 2011. Address written comments to Statutory Import Programs Staff, Room 3720, U.S. Department of Commerce, Washington, DC 20230. Applications may be examined between 8:30 a.m. and 5 p.m. at the U.S. Department of Commerce in Room 3720.

Docket Number: 11-056. Applicant: Battelle Energy Alliance, 2525 North Freemont Ave., Idaho Falls, ID 83415. Instrument: Electron Microscope. Manufacturer: FEI Company, the Netherlands. Intended Use: The instrument will be used to analyze nuclear fuels and materials for energy production. The experiments will involve structural and chemical analyses of materials on the atomic resolution scale. Current U.S. manufactured instruments do not reach the sensitivity level of this instrument. Justification for Duty-Free Entry: There are no instruments of the same general category manufactured in the United States. Application accepted by Commissioner of Customs: August 16, 2011.

Docket Number: 11-057. Applicant: Battelle Energy Alliance, 2525 North Freemont Ave., Idaho Falls, ID 83415. Instrument: Electron Microscope. Manufacturer: FEI Company, Czech Republic. Intended Use: The instrument will be used to analyze nuclear fuels and materials for energy production. The experiments will involve structural and chemical analyses of materials on the electron based nanometer scale. Current U.S. manufactured instruments do not reach the sensitivity level of this instrument. Justification for Duty-Free Entry: There are no instruments of the same general category manufactured in the United States. Application accepted by Commissioner of Customs: August 15, 2011.

Docket Number: 11-058. Applicant: University of Texas at Austin, Texas Materials Institute, 1 University Station C2201, Austin, TX 78712. Instrument: Electron Microscope. Manufacturer: FEI Company, the Netherlands. Intended Use: The instrument will be used to study materials such as polymers, metals, ceramics, and biological specimens like tissues, viruses, and bacteria, to determine the morphology of multiphase materials, determine the particle size and size distribution, probe the sample's surface topography, and determine the chemical composition of materials at nanometer scale. Scanning electron microscopy is the only technique that allows direct imaging of material features within the nanometer size range. Justification for Duty-Free Entry: There are no instruments of the same general category manufactured in the United States. Application accepted by Commissioner of Customs: August 9, 2011.

Dated: September 2, 2011.
Gregory Campbell,
Director, IA Subsidies Enforcement Office.

[FR Doc. 2011-23256 Filed 9-9-11; 8:45 am]

BILLING CODE 3510-DS-P